DEPARTMENT OF HEALTH AND HUMAN SERVICES

National Institutes of Health

Center for Scientific Review; Cancellation of Meeting

Notice is hereby given of the cancellation of the Center for Scientific Review Special Emphasis Panel, June 9, 2006, 8 a.m. to June 9, 2006, 6 p.m., Latham Hotel, 3000 M Street, NW., Washington, DC 20007 which was published in the Federal Register on May 5, 2006, 71 FR 26550-26552.

The meeting is cancelled due to the reassignment of the applications.

Dated: May 23, 2006.
Anna Snouffer,
Acting Director, Office of Federal Advisory Committee Policy.

[FR Doc. 06-4975 Filed 5-30-06; 8:45 am]

BILLING CODE 4140-01-M